DEPARTMENT OF EDUCATION

National Advisory Committee on Institutional Quality and Integrity; Membership

AGENCY: National Advisory Committee on Institutional Quality and Integrity (NACIQI), U.S. Department of Education.

ACTION: Notice of membership.

SUMMARY: This notice lists the members of the National Advisory Committee on Institutional Quality and Integrity (NACIQI).

ADDRESSES: U.S. Department of Education, Office of Postsecondary Education, 400 Maryland Ave. SW, Washington, DC 20202.

FOR FURTHER INFORMATION CONTACT: George Alan Smith, Ed.D., Executive Director/Designated Federal Official, NACIQI, U.S. Department of Education, 400 Maryland Ave. SW, Washington, DC 20202, telephone: (202) 453-7757, or email george.alan.smith@ed.gov.

SUPPLEMENTARY INFORMATION: This notice is required under section 114(e)(1) of the Higher Education Act of 1965, as amended (HEA).

NACIQI's Statutory Authority and Functions

The NACIQI is established under Section 114 of the HEA, and is composed of a maximum of 18 appointed members—

(A) On the basis of the individuals' experience, integrity, impartiality, and good judgment;

(B) From among individuals who are representatives of, or knowledgeable concerning, education and training beyond secondary education, representing all sectors and types of institutions of higher education; and,

(C) On the basis of the individuals' technical qualifications, professional standing, and demonstrated knowledge in the fields of accreditation and administration of higher education.

The NACIQI meets at least twice a year and advises the Secretary of Education with respect to:

• The establishment and enforcement of the standards of accrediting agencies or associations under subpart 2, part H, title IV of the HEA, as amended;

• The recognition of specific accrediting agencies or associations;

• The preparation and publication of the list of nationally recognized accrediting agencies and associations;

• The eligibility and certification process for institutions of higher education under title IV of the HEA and part C, subchapter I, chapter 34, Title 42, together with recommendations for improvements in such process;

• The relationship between (1) accreditation of institutions of higher education and the certification and eligibility of such institutions, and (2) State licensing responsibilities with respect to such institutions; and

• Any other advisory functions relating to accreditation and institutional eligibility that the Secretary of Education may prescribe by regulation.

What are the terms of office for the committee members?

The term of office of each member is six years. Any member appointed to fill a vacancy occurring prior to the expiration of the term for which the member's predecessor was appointed shall be appointed for the remainder of such term.

Who are the current members of the committee?

The current members of the NACIQI are:

Members Appointed by the Secretary of Education with Terms Expiring September 30, 2025:

• Wallace E. Boston, Ph.D., President Emeritus, American Public University System, Inc., Charles Town, West Virginia. Appointed by Secretary Betsy DeVos.

• Keith Curry, Ed.D., President/Chief Executive Officer, Compton College and Compton Community College District, Compton, California. Appointed by Secretary Miguel Cardona.

• David A. Eubanks, Ph.D., Assistant Vice President for Assessment and Institutional Effectiveness, Furman University, Greenville, South Carolina. Appointed by Secretary Betsy DeVos.

• Molly E. Hall-Martin, Ph.D., Director, W-SARA, Western Interstate Commission for Higher Education (WICHE), Boulder, Colorado. Appointed by Secretary Miguel Cardona.

• D. Michael Lindsay, Ph.D., President, Taylor University, Upland, Indiana. Appointed by Secretary Betsy DeVos.

• Mary Ellen Petrisko, Ph.D., Former President, WASC Senior College and University Commission, Pittsburgh, Pennsylvania. Appointed by Secretary Betsy DeVos.

Members Appointed by the Speaker of the House of Representatives with Terms Expiring September 30, 2026:

• Kathleen Sullivan Alioto, Ed.D., Strategic Advisor, Fundraiser, and Consultant, New York, New York, San Francisco, California, and Boston, Massachusetts. Appointed by Congresswoman Nancy Pelosi.

• Roslyn Clark Artis, J.D., Ed.D., President, Benedict College, Columbia, South Carolina. Appointed by Congresswoman Nancy Pelosi.

• Jennifer Blum, J.D., Principal, Blum Higher Education Advising, PLLC, Washington, DC. Appointed by Congressman Kevin McCarthy.

• Arthur E. Keiser, Ph.D., Chancellor, Keiser University, Fort Lauderdale, Florida. Appointed by Congressman Kevin McCarthy.

• Robert Mayes, Jr., CEO, Columbia Southern Education Group, Elberta, Alabama. Appointed by Congressman Kevin McCarthy.

• Robert Shireman, Senior Fellow, The Century Foundation, Berkeley, California. Appointed by Congresswoman Nancy Pelosi.

Members Appointed by the President Pro Tempore of the Senate with Terms Expiring September 30, 2028:

• Debbie Cochrane, Bureau Chief, California Bureau for Private Postsecondary Education, Alameda, California. Appointed by Senator Chuck Schumer.

• Zakiya Smith Ellis, Ed.D., Principal, Education Counsel, Atlanta, Georgia. Appointed by Senator Chuck Schumer.

• Michael Poliakoff, Ph.D., President, American Council of Trustees and Alumni, Washington, DC. Appointed by Senator Mitch McConnell.

• Claude O. Pressnell Jr., Ed.D., President, Tennessee Independent Colleges and Universities Association, Nashville, Tennessee. Appointed by Senator Mitch McConnell.

• José Luis Cruz Rivera, Ph.D., President, Northern Arizona University, Flagstaff, Arizona. Appointed by Senator Chuck Schumer.

Electronic Access to This Document: The official version of this document is the document published in the Federal Register. Free internet access to the official edition of the Federal Register and the Code of Federal Regulations is available via the Federal Digital System at www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: 20 U.S.C. 1011c.

Miguel Cardona,
Secretary of Education.

[FR Doc. 2023-28648 Filed 12-28-23; 8:45 am]

BILLING CODE P